INTERNATIONAL TRADE COMMISSION

[Investigation No. 731-TA-663 (Fourth Review)]

Paper Clips From China

Determination

On the basis of the record ¹ developed in the subject five-year review, the United States International Trade Commission (“Commission”) determines, pursuant to the Tariff Act of 1930 (“the Act”), that revocation of the antidumping duty order on paper clips from China would be likely to lead to continuation or recurrence of material injury to an industry in the United States within a reasonably foreseeable time.

¹ The record is defined in sec. 207.2(f) of the Commission's Rules of Practice and Procedure (19 CFR 207.2(f)).

Background

The Commission, pursuant to section 751(c) of the Act (19 U.S.C. 1675(c)), instituted this review on June 1, 2016 (81 FR 35052) and determined on September 6, 2016 that it would conduct a full review (82 FR 13132, March 9, 2017). Notice of the scheduling of the Commission's review and of a public hearing to be held in connection therewith was given by posting copies of the notice in the Office of the Secretary, U.S. International Trade Commission, Washington, DC, and by publishing the notice in the Federal Register on March 9, 2017 (82 FR 13132). The hearing was cancelled on June 8, 2017 at the request of the domestic interested parties (82 FR 27285, June 14, 2017).

The Commission made this determination pursuant to section 751(c) of the Act (19 U.S.C. 1675(c)). It completed and filed its determination in this review on August 24, 2017. The views of the Commission are contained in USITC Publication 4719 (August 2017), entitled Paper Clips from China: Investigation No. 731-TA-663 (Fourth Review).

By order of the Commission.
Issued: August 24, 2017.
Katherine M. Hiner,
Supervisory Attorney.

[FR Doc. 2017-18357 Filed 8-29-17; 8:45 am]

BILLING CODE 7020-02-P